DEPARTMENT OF TRANSPORTATION

Surface Transportation Board

[Docket No. AB 55 (Sub-No. 718X)] [Docket No. AB 507 (Sub-No. 1X)]

CSX Transportation, Inc.—Abandonment Exemption—in Alachua County, Fla. and Florida Northern Railroad Company, Inc.—Discontinuance of Service Exemption—in Alachua County, Fla.

CSX Transportation, Inc. (CSXT), and Florida Northern Railroad Company, Inc. (FNOR), jointly filed a verified notice of exemption under 49 CFR part 1152 subpart F—Exempt Abandonments and Discontinuances of Service for CSXT to abandon approximately 11.62 miles of rail line on CSXT's Southern Region, Jacksonville Division, West Coast Subdivision, between milepost AR 716.88, at High Springs, and milepost AR 726.69, at Newberry, and milepost ARB 717.11, at High Springs, and milepost ARB 718.92, at High Springs, in Alachua County, Fla. (the Line); and (2) FNOR to discontinue service over approximately 9.81 miles of rail between milepost AR 716.88, at High Springs, and milepost AR 726.69, at Newberry (the FNOR Line).¹ The Line traverses United States Postal Service Zip Codes 32643 and 32669.

¹ The FNOR Line is a portion of the Line. CSXT leased the FNOR Line to FNOR in 2005 as part of the transaction in Florida Northern Railroad—Lease Exemption—Line of CSX Transportation, Inc., FD 34689 (STB served June 15, 2005). Since that time, FNOR also has operated the CSXT trackage between milepost ARB 717.11, and milepost ARB 718.92, the remainder of the Line, as exempt industry track.

CSXT and FNOR have certified that: (1) No local traffic has moved over the Line for at least two years; (2) no overhead traffic has moved over the Line for at least two years and overhead traffic, if there were any, can be rerouted over other lines; (3) no formal complaint filed by a user of rail service on the Line (or by a state or local government entity acting on behalf of such user) regarding cessation of service over the Line either is pending before the Surface Transportation Board or before any U.S. District Court or has been decided in favor of the complainant within the two-year period; and (4) the requirements at 49 CFR 1105.7(c) (environmental reports), 49 CFR 1105.11 (transmittal letter), 49 CFR 1105.12 (newspaper publication), and 49 CFR 1152.50(d)(1) (notice to governmental agencies) have been met.²

² The Line has been embargoed due to track condition since July 22, 2011. Prime Conduit, the only shipper on the FNOR Line, receives service via transloading at Jacksonville, Fla., or other nearby transloading locations.

As a condition to this exemption, any employee adversely affected by the abandonment or discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on January 9, 2014, unless stayed pending reconsideration. Petitions to stay that do not involve environmental issues,³ formal expressions of intent to file an OFA under 49 CFR 1152.27(c)(2),⁴ and trail use/rail banking requests under 49 CFR 1152.29 must be filed by December 20, 2013. Petitions to reopen or requests for public use conditions under 49 CFR 1152.28 must be filed by December 30, 2013, with the Surface Transportation Board, 395 E Street SW., Washington, DC 20423-0001.

³ The Board will grant a stay if an informed decision on environmental issues (whether raised by a party or by the Board's Office of Environmental Analysis (OEA) in its independent investigation) cannot be made before the exemption's effective date. See Exemption of Out-of-Serv. Rail Lines, 5 I.C.C. 2d 377 (1989). Any request for a stay should be filed as soon as possible so that the Board may take appropriate action before the exemption's effective date.

⁴ Each OFA must be accompanied by the filing fee, which is currently set at $1600. See 49 CFR 1002.2(f)(25).

A copy of any petition filed with the Board should be sent to CSXT's representative: Louis E. Gitomer, Law Offices of Louis E. Gitomer, 600 Baltimore Avenue, Suite 301, Towson, MD 21204. A copy of any petition filed with the Board also should be sent to FNOR's representative: Thomas J. Litwiler, Fletcher & Sippel, LLC, 29 North Wacker Drive, Suite 920, Chicago, IL 60606-2832.

If the verified notice contains false or misleading information, the exemption is void ab initio.

Applicants have filed environmental and historic reports that address the effects, if any, of the abandonment and discontinuance on the environment and historic resources. OEA will issue an environmental assessment (EA) by December 13, 2013. Interested persons may obtain a copy of the EA by writing to OEA (Room 1100, Surface Transportation Board, Washington, DC 20423-0001) or by calling OEA, at (202) 245-0305. Assistance for the hearing impaired is available through the Federal Information Relay Service (FIRS) at 1-800-877-8339. Comments on environmental and historic preservation matters must be filed with 15 days after the EA becomes available to the public.

Environmental, historic preservation, public use, or trail use/rail banking conditions will be imposed, where appropriate, in a subsequent decision.

Pursuant to the provisions of 49 CFR 1152.29(e)(2), CSXT shall file a notice of consummation with the Board to signify that it has exercised the authority granted and fully abandoned the Line. If consummation has not been effected by CSXT's filing of a notice of consummation by December 10, 2014, and there are no legal or regulatory barriers to consummation, the authority to abandon will automatically expire.

Board decisions and notices are available on our Web site at “www.stb.dot.gov.”

Decided: December 5, 2013.
By the Board, Rachel D. Campbell, Director, Office of Proceedings.
Raina S. White,
Clearance Clerk.

[FR Doc. 2013-29429 Filed 12-9-13; 8:45 am]

BILLING CODE 4915-01-P